DEPARTMENT OF TRANSPORTATION

Office of the Secretary

Aviation Proceedings, Agreements Filed the Week Ending February 24, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24019.

Date Filed: February 21, 2006.

Parties: Members of the International Air Transport Association.

Subject:

PTC3 Mail Vote 474 Resolution 010e, TC3 Japan, Korea-South East Asia Special Passenger.

Amending Resolution, From Korea (Rep. of) to China (excluding Hong Kong SAR and Macao SAR), (Memo 0945).

Intended effective date: April 1, 2006.

Docket Number: OST-2006-24020.

Date Filed: February 21, 2006.

Parties: Members of the International Air Transport Association.

Subject:

TC1 Passenger Tariff Coordinating Conference, Teleconference, 25-27 July 2005.

TC1 Within South America Resolutions (PTC1 0331).

Minutes: TC1 Teleconference, 25-27 July 2005 (Memo PTC1 338).

Tables: TC1 Within South America specified fare table, (Memo PTC1 0102).

Intended effective date: 1 January 2006.

Docket Number: OST-2006-24021.

Date Filed: February 21, 2006.

Parties: Members of the International Air Transport Association.

Subject:

PTC31 SOUTH 0177 dated June 6, 2005.

TC31 South Pacific Resolutions except between French Polynesia, New Caledonia, New Zealand and USA r1-r38.

Minutes: PTC31 SOUTH 0179 dated June 9, 2005.

Tables: PTC31 SOUTH Fares 0040 dated June 6, 2005.

Technical Correction PTC31 SOUTH Memo 0180.

Intended effective date: October 1, 2005.

Docket Number: OST-2006-24022.

Date Filed: February 21, 2006.

Parties: Members of the International Air Transport Association.

Subject:

Mail Vote 448.

TC12 North Atlantic USA-Europe (Memo 0183) (except between USA and Austria, Belgium, Czech Republic, Finland, France, Germany, Iceland, Italy, Netherlands, Scandinavia, Switzerland).

Minutes: TC12 North Atlantic Canada, USA-Europe (Memo 0185).

Montreal, June 14-16, 2005.

Tables: TC12 North Atlantic USA-Europe Specified Fares Tables (Memo 0100).

Intended effective date: November 1, 2005.

Renee V. Wright,
Program Manager, Docket Operations, Federal Register Liaison.

[FR Doc. E6-3980 Filed 3-17-06; 8:45 am]

BILLING CODE 4910-62-P